DEPARTMENT OF AGRICULTURE

Forest Service

Notice of Sanders County Resource Advisory Committee Meeting

AGENCY: Forest Service, USDA.

ACTION: Notice of meetings.

SUMMARY: Pursuant to the authorities in the Federal Advisory Committee Act (Pub. L. 92-463) and under the Secure Rural Schools and Community Self-Determination Act of 2000 (Pub. L. 106-393) the Lolo and Kootenai National Forests' Sanders County Resource Advisory Committee will meet on November 10, 2004 at 6:30 p.m. in Thompson Falls, Montana for business meetings. The meetings are open to the public.

DATES: November 10, 2004.

ADDRESSES: The meeting will be held at the Thompson Falls Courthouse, 1111 Main Street, Thompson Falls, MT 59873.

FOR FURTHER INFORMATION CONTACT: Randy Hojem, Designated Forest Official (DFO), District Ranger Plains/Thompson Falls District, Lolo National Forest at (406) 826-3821, or Shana Neesvig, Committee Coordinator, Cabinet Ranger District, Koorenai National Forest at (406) 827-3533.

SUPPLEMENTARY INFORMATION: Agenda topics include approving project proposals for funding and receiving public comment. If the meeting location is changed, notice will be posted in the local newspapers, including the Clark Fork Valley Press, Sanders County Ledger, Missoulian, and River Journal.

Dated: September 20, 2004.
Randy Hojen,
Designated Federal Official, District Ranger, Plains/Thompson Falls Ranger District.

[FR Doc. 04-21697 Filed 9-27-04; 8:45 am]

BILLING CODE 3410-11-M